POSTAL SERVICE

Postal Service Board of Governors Sunshine Act Meeting

Board Votes To Close November 16, 2005, Meeting. At its meeting on November 1, 2005, the Board of Governors of the United States Postal Service voted unanimously to close to public observation its meeting scheduled for November 16, 2005, in Washington, DC. The Board determined that earlier public notice was not possible.

Items To Be Considered: 1. Opinion and Recommended Decision of the Postal Rate Commission in Docket No. R2005-1.

2. Audit and Finance Committee Report and Review and Approval of Year-end Financial Statements.

3. Strategic Planning.

4. Personnel Matters and Compensation Issues.

General Counsel Certification: The General Counsel of the United States Postal Service has certified that the meeting was properly closed under the Government in the Sunshine Act.

Contact Person For More Information: Requests for information about the meeting should be addressed to the Secretary of the Board, William T. Johnstone, at (202) 268-4800.

William T. Johnstone,
Secretary.

[FR Doc. 05-22508 Filed 11-7-05; 3:51 pm]

BILLING CODE 7710-12-M